DEPARTMENT OF TRANSPORTATION

Federal Railroad Administration

49 CFR Part 240

[Docket No. FRA-2008-0091, Notice No. 3]

RIN 2130-AB95

Qualification and Certification of Locomotive Engineers; Miscellaneous Revisions

AGENCY: Federal Railroad Administration (FRA), Department of Transportation (DOT).

ACTION: Notice to reopen comment period.

SUMMARY: FRA is reopening the comment period for the notice of proposed rulemaking (NPRM) published on December 31, 2008 (73 FR 80349) which proposed revisions to FRA regulations governing the qualification and certification of locomotive engineers. Reopening the comment period is necessary to provide interested parties the opportunity to submit comments on the information and testimony offered at the public hearing related to the NPRM that was conducted on April 14, 2009. The comment period is reopened until June 15, 2009.

DATES: Written comments must be received by Monday, June 15, 2009. Comments received after that date will be considered to the extent possible without incurring additional expenses or delays.

ADDRESSES: Comments related to Docket No. FRA-2008-0091 may be submitted by any of the following methods:

• Fax: 1-202-493-2251;

• Mail: U.S. Department of Transportation, Docket Operations, M-30, West Building Ground Floor, Room W12-140, 1200 New Jersey Avenue, SE., Washington, DC 20590;

• Hand Delivery: U.S. Department of Transportation, Docket Operations, West Building Ground Floor, Room W12-140, 1200 New Jersey Avenue, SE., Washington, DC 20590, between 9 a.m. and 5 p.m., Monday through Friday, except Federal holidays; or

• Electronically through the Federal eRulemaking Portal, http://www.regulations.gov. Follow the online instructions for submitting comments.

Instructions: All submissions must include the agency name, docket name and docket number or Regulatory Identification Number (RIN) for this rulemaking. Note that all comments received will be posted without change to http://www.regulations.gov, including any personal information provided. Please see the Privacy Act section of this document.

Docket: For access to the docket to read background documents or comments received, go to http://www.regulations.gov at any time or to U.S. Department of Transportation, Docket Operations, M-30, West Building Ground Floor, Room W12-140, 1200 New Jersey Avenue, SE., Washington, DC, between 9 a.m. and 5 p.m., Monday through Friday, except Federal holidays.

FOR FURTHER INFORMATION, CONTACT: John L. Conklin, Program Manager, Locomotive Engineer Certification, U.S. Department of Transportation, Federal Railroad Administration, Mail Stop 25, West Building 3rd Floor West, Room W38-208, 1200 New Jersey Avenue, SE., Washington, DC 20590 (telephone: 202-493-6318); or John Seguin, Trial Attorney, U.S. Department of Transportation, Federal Railroad Administration, Office of Chief Counsel, RCC-10, Mail Stop 10, West Building 3rd Floor, Room W31-217, 1200 New Jersey Avenue, SE., Washington, DC 20590 (telephone: 202-493-6045).

SUPPLEMENTARY INFORMATION: On April 14, 2009, the comment period for the NPRM reopened for thirty (30) days so that FRA could make the public hearing transcript available for review and comment by the general public, interested parties could provide additional comments or documents, and so interested parties could respond to testimony provided at the public hearing. A request for an extension of that comment period, which closed on May 14, 2009, has been filed with the FRA. The request alleges that an interested party was unable to timely comment due to problems accessing the hearing transcript. In light of the request, FRA is reopening the comment period.

Privacy Act

FRA wishes to inform all potential commenters that anyone is able to search the electronic form of all comments received into any agency docket by the name of the individual submitting the comment (or signing the comment, if submitted on behalf of an association, business, labor union, etc.). You may review DOT's complete Privacy Act Statement in the Federal Register published on April 11, 2000 (65 FR 19477-78) or you may visit http://www.regulations.gov/search/footer/privacyanduse.jsp.

Issued in Washington, DC, on May 20, 2009.
Grady C. Cothen, Jr.,
Deputy Associate Administrator for Safety Standards and Program Development.

[FR Doc. E9-12156 Filed 5-26-09; 8:45 am]

BILLING CODE 4910-06-P